DEPARTMENT OF HEALTH AND HUMAN SERVICES

National Institutes of Health

National Institute of Child Health and Human Development; Notice of Closed Meeting

Pursuant to section 10(d) of the Federal Advisory Committee Act, as amended (5 U.S.C. Appendix 2), notice is hereby given of the following meeting of the National Advisory Child Health and Human Development Council.

The meeting will be closed to the public in accordance with the provisions set forth in section 552b(c)(9)(B), Title 5 U.S.C., as amended. The intramural programs and projects and the discussions could disclose confidential trade secrets or commercial property such as patentable material, and personal information concerning individuals associated with the intramural programs and projects, the disclosure of which would constitute a clearly unwarranted invasion of personal privacy.

Name of Committee: National Advisory Child Health and Human Development Council; NACHHD Subcommittee on Planning and Policy.

Date: May 19, 2006.

Time: 4:30 p.m. to 6 p.m.

Agenda: To review and evaluate Division of Intramural Research site visit reports.

Place: National Institutes of Health, Building 31, 31 Center Drive, Room 2A48, Bethesda, MD 20892 (Telephone Conference Call).

Contact Person: Margaret Ames, PhD, Deputy Director for Science, Policy, Analysis, and Communication, NICHD/NIH/DHHS, 31 Center Drive, Suite 2A-18, Bethesda, MD 20892. 301-496-0588.

This notice is being published less than 15 days prior to meeting due to the urgent need to meet timing limitations imposed by the intramural research review and funding cycle.

(Catalogue of Federal Domestic Assistance Program Nos. 93.864, Population Research; 93.865, Research for Mothers and Children; 93.929, Center for Medical Rehabilitation Research; 93.209, Contraception and Infertility Loan Repayment Program, National Institutes of Health, HHS)

Dated: May 8, 2006.
Anna Snouffer,
Acting Director, Office of Federal Advisory Committee Policy.

[FR Doc. 06-4559 Filed 5-15-06; 8:45 am]

BILLING CODE 4140-01-M